DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for December 4, 2001, beginning at 8:30 a.m. Arrange for oral presentations by November 30.

ADDRESSES: National Transportation Safety Board Room and Conference Center, Conference Room A&B, 429 L'Enfant Plaza, SW., Washington, DC.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III) notice is given of an ARAC meeting to be held December 4, in Washington, DC.

The agenda will include:

• Opening Remarks

• FAA Report

• Joint Aviation Authorities Report

• Transport Canada Report

• Executive Committee Report

• Harmonization Management Team Report

• ARAC Tasking Priorities Discussion

• Design for Security Harmonization Working Group (HWG) Report

• Ice Protection HWG Report

• Loads & Dynamics HWG Report

• Engine HWG Report and Approval

• Mechanical Systems HWG Report

• General Structure HWG Report

• Airworthiness Assurance Working Group Report

• Human Factors HWG Report

• Electrical Systems HWG Report

• System Design and Analysis Report

• Written working group reports may be provided for the following HWG's: Electromagnetic Effects, Flight Test, Powerplant Installation, Seat Test, Flight Guidance, Flight Control, and Avionics Systems. An update also may be provided for the Extended Range with Two-Engine Aircraft Tasking.

The Engine HWG plans to seek approval of its bird management recommendations.

Attendance is open to the public, but will be limited to the availability of meeting room space and telephone lines. Details for participating in the teleconference will be available after November 28 by contacting the person listed in the FOR FURTHER INFORMATION CONTACT section. Callers outside the Washington metropolitan area will be responsible for paying long distance charges.

The public must make arrangements by November 30 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on November 20, 2001.
Tony F. Fazio,
Director, Office of Rulemaking.

[FR Doc. 01-29396 Filed 11-26-01; 8:45 am]

BILLING CODE 4910-13-M